FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

United Globe Cargo Inc., 2142 NW 99th Avenue, Miami, FL 33172. Officer: Constanza Nakamura, President (Qualifying Individual)

Moving Services International, LLC, 1590 NE 162nd Street, Suite 300, North Miami Beach, FL 33102. Officers: Bogdan Koszarycz, Manager (Qualifying Individual), Sharon Fachler, Manager

Sparrow Freight America, Inc., 550 E. Carson Plaza Drive, #108 Carson, CA 90746. Officers: Gregory Harold Pearson, Managing Director (Qualifying Individual), Wei Jin Ong, Director

Pacific Global Consolidators, Inc. 3770 W. Century Blvd., Inglewood, CA 90303. Officer: Raymond Tse, CEO (Qualifying Individual)

Non-Vessel Operating Common Carrier and Ocean Freight Forwarder Transportation Intermediary Applicants:

Caribika Inc. dba Caribika Marine Line, 1338 NW 78th Avenue, Miami, FL 33126. Officers: Angel M. Mederos, Vice President, Felipe Trauttmansdorff, President (Qualifying Individuals)

Sys-tems Logistix, Inc., 3850 Three Mile Lane NE, McMinnville, OR 97128. Officers: George Haddad, Global Ocean Director (Qualifying Individual), Brian Bauer, President

Cargo Specialists, Inc., 100 W. Imperial Highway, Suite J, El Segundo, CA 90245. Officers: Anthony Johnson, III, President (Qualifying Individual), Alma Laura Wratschko, Vice President

Tronex Logistics, Inc., 8460 NW 30th Terrace, Miami, FL 33122. Officer: Craig Robinson, President (Qualifying Individual)

Atlantic Pacific Global Logistics Ltd., P.O. Box 60, 10 Audrey Avenue, Oyster Bay, NY 11771. Officer: Ashley Russell Nichols, Managing Director (Qualifying Individual)

Sea-Line-Cargo, Inc., 250 North Avenue E., Elizabeth, NJ 07201. Officer: Edickson Burgos, President (Qualifying Individual)

Hanjin Logistics, Inc., 1211 W. 22nd Street, Suite 1000, Oak Brook, IL 60523. Officer: Michael J. Radak, Vice President (Qualifying Individual)

Ocean Freight Forwarder—Ocean Transportation Intermediary Applicants:

Contour Logistics, Inc., 2950 Turnpike Drive, Suite 19, Hatboro, PA 19040. Officer: Vera Sumetskaya, President (Qualifying Individual)

TRB Group, Inc. dba Unishippers, 2012 E. Phelps, Suite A, Springfield, MO 65802. Officers: Ray W. Crossland, Vice President (Qualifying Individual), Terrell R. Barkett, President

D&B Logistics, 3801 Beam Road, Suite A, Charlotte, NC 28217. Officers: Stephen G. Yohrling, Vice President (Qualifying Individual), David J. Kocan, President

Dated: July 9, 2004.
Karen V. Gregory,
Assistant Secretary.

[FR Doc. 04-15994 Filed 7-14-04; 8:45 am]

BILLING CODE 6730-01-P